DEPARTMENT OF HEALTH AND HUMAN SERVICES

Substance Abuse and Mental Health Services Administration

Statement of Organization, Functions, and Delegations of Authority

Part M of the Substance Abuse and Mental Health Services Administration (SAMHSA) Statement of Organization, Functions, and Delegations of Authority for the Department of Health and Human Services at 72, Number 198, page 58317-58318, October 15, 2007 is amended to reflect changes of the functional statements for the Center for Mental Health Services (CMHS), Division of Prevention, Traumatic Stress and Special Programs (DPTSSP), and the Division of Service and Systems Improvement (DSI). These amendments are necessary to reflect the increase in program growth of these two divisions, alleviate workload pressures faced by staff, make process improvement, and provide for effectiveness and efficiency of operations. The changes are as follows:

Section M.20, Functions is amended as follows:

The functional statements for the CMHS' DPTSSP and DSI are replaced with the following:

Center for Mental Health Services

Division of Prevention, Traumatic Stress and Special Programs (MSC)

(1) Serves as the focal point in planning for alcohol, drug abuse, and mental health services during national disasters; (2) cooperates with the Assistant Secretary for Preparedness and Response and the Federal Emergency Management Agency (FEMA) and other Federal agencies to coordinate disaster assistance, community response, and other mental health emergency services as a consequence of national disasters or mass criminal events, such as terrorism and school shootings; (3) serves as a focal point for refugee mental health programs, including liaison with other Federal agencies; (4) conducts program development activities and engages with the faith community, when appropriate, to promote effective programs and polices to special populations including women, minorities, youth in juvenile justice facilities, and elderly persons living in rural areas; and (5) administers youth violence and suicide prevention programs, trauma and terrorism/bio-terrorism initiatives, and programs that prevent mental and behavioral disorders and promote mental health and resilience across the lifecycle.

Division of Service and Systems Improvement (MSF)

(1) Develops, plans, implements, and monitors national activities designed to improve systems and service delivery for persons with, or at risk for, mental health problems; (2) directs a clearinghouse that serves as a one-stop information and referral service for the public, consumers and family members, educators, policymakers, and for those who design, finance, and deliver mental health services; (3) administers the Projects for Assistance in Transition from Homelessness (PATH) program; and (4) directs the Comprehensive Community Mental Health Services for Children with Serious Emotional Disturbances Program; (5) places priority on two target populations, adults with severe mental illness (including those who are homeless) and children and adolescents with serious mental disturbances; (6) emphasizes acquisition, exchange, and application of knowledge in all of its activities; (7) develops Guidances for Applications and requests for contracts to implement these activities; (8) monitors grants, cooperative agreements, contracts, interagency agreements, and memoranda of understanding; (9) identifies needs for and provides technical assistance to a variety of customers through both direct and indirect activities, including the development of standards and guidelines; (10) establishes and maintains collaborative relationships with other Federal, State, and local governmental agencies, national organizations, local communities, providers, consumers, and families; (11) promotes adoption of practices in communities through the Nation by synthesizing knowledge, exchanging information, and providing opportunities for consensus building, and (12) promote the prevention of HIV infection in people at risk, the delivery of effective mental health services for people with HIV infection, and the education of health care providers to address the neuropsychiatric and the psychosocial aspects of HIV infection and AIDS and maintains liaison with national organizations and other Federal departments.

Delegation of Authority

All delegations and redelegations of authority to officers and employees of SAMHSA which were in effect immediately prior to the effective date of this reorganization shall continue to be in effect pending further redelegations, providing they are consistent with the reorganization.

These organizational changes are effective.

Dated: July 23, 2008.
Terry L. Cline,
Administrator.

[FR Doc. E8-17371 Filed 7-29-08; 8:45 am]

BILLING CODE 4160-01-M